DEPARTMENT OF THE INTERIOR

National Park Service

[NPS-WASO-NRNHL-DTS#-35268; PPWOCRADI0, PCU00RP14.R50000]

National Register of Historic Places; Notification of Pending Nominations and Related Actions

AGENCY: National Park Service, Interior.

ACTION: Notice.

SUMMARY: The National Park Service is soliciting electronic comments on the significance of properties nominated before January 28, 2023, for listing or related actions in the National Register of Historic Places.

DATES: Comments should be submitted electronically by February 24, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 28, 2023. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

KEY: State, County, Property Name, Multiple Name (if applicable), Address/Boundary, City, Vicinity, Reference Number.

CALIFORNIA

Los Angeles County

Fudger, Eva K., House 211 South Muirfield Rd. Los Angeles, SG100008690

IOWA

Linn County

Bever Woods Historic District, Grande Ave. SE, 21st St. SE, Bever Ave. SE Cedar Rapids, SG100008668

Polk County

East Des Moines Industrial Historic District (Boundary Increase) 401 East Court Ave Des Moines, BC100008682

MARYLAND

Kent County

Chesapeake Fishing Shanty 21096 Chesapeake Ave. Rock Hall, SG100008669

MISSOURI

Jackson County

Safeway No. 357 3740 Troost Ave. Kansas City, SG100008688

NEBRASKA

Buffalo County Bohning Memorial Auditorium

(New Deal-era Resources in Nebraska MPS) 112 West Genoa St.Ravenna, MP100008672

Cass County

Agricultural Society Building (Auditorium) (New Deal-era Resources in Nebraska MPS) 101 West Eldora Ave. Weeping Water, MP100008673

Gage County

Centenary Methodist Episcopal Church 608 Elk St. Beatrice, SG100008674

Lancaster County

Laura Wood Residential Historic District Generally bounded by Otoe, High, 17th, and 19th Sts. Lincoln, SG100008675

Iowa-Nebraska Light and Power Company Plant 440 South 8th St. Lincoln, SG100008676

Webster County

navale Community Hall and Gymnasium (New Deal-era Resources in Nebraska MPS) 418 Minnesota Ave. Inavale, MP100008680

York County

York Auditorium (New Deal-era Resources in Nebraska MPS) 612 Nebraska Ave. York, MP100008681

OHIO

Franklin County

Columbus Center 100 East Broad St. Columbus, SG100008685

Hamilton County

Hart, Edward, House 818 Glenwood Ave. Cincinnati, SG100008694

Hocking County

Riley Specialty Shoe Company 14 Gallagher Ave. Logan, SG100008686

VERMONT

Addison County

East Monkton Church (Religious Buildings, Sites and Structures in Vermont MPS) 405 Church Rd. Monkton, MP100008689

VIRGINIA

Alexandria Independent City

St. Paul's Episcopal Church Cemetery Wilkes Street Cemetery Complex, 601 Hamilton Ln. Alexandria, SG100008671

Craig County

Gravel Hill Christian Church 197 Gravel Hill Rd. New Castle vicinity, SG100008670

Petersburg Independent City

Jarratt House 808-810 Logan St. Petersburg, SG100008693

Virginia Beach Independent City

Woodhurst Neighborhood Historic District Graham, Indian Run, and Mill Dam Rds., Strawberry Ln. and, Woodhurst Dr. Virginia Beach, SG100008701

A request for removal has been made for the following resources:

NEBRASKA

Colfax County

Our Lady of Perpetual Help Catholic Church & Cemetery Address Restricted Schuyler vicinity, OT82000600

Douglas County

Reagan, John E., House 2102 Pinkney St. Omaha, OT14000201

Saunders County

Beetison, Israel, House SE of Ashland Ashland vicinity, OT77000839

Ashland Bridge (Highway Bridges in Nebraska MPS) Silver St. over Salt Cr. Ashland, OT92000721

Additional documentation has been received for the following resources:

TENNESSEE

Jefferson County

Dandridge Historic District (Additional Documentation) Town center around Main, Meeting, and Gay Sts. Dandridge, AD73001792

Knox County

Knoxville College Historic District (Additional Documentation) 901 College St., NW Knoxville, AD80003841

Shelby County

Fowlkes-Boyle House (Additional Documentation) 208 Adams Ave.Memphis, AD74001928

Porter, Dr. D. T., Building (Additional Documentation) 10 N. Main St. Memphis, AD77001291

Wells School (Additional Documentation) 4140 Collierville—Arlington Rd. Eads vicinity, AD95000292

East Buntyn Historic District (Additional Documentation) Roughly bounded by Central and Southern Aves. and Ellsworth and Greer Sts. Memphis, AD95001332

Washington County

Salem Presbyterian Church (Additional Documentation) 147 Washington College Rd. Limestone vicinity, AD92001255

Authority: Section 60.13 of 36 CFR part 60.

Dated: February 1, 2023.
Sherry A Frear,
Chief, National Register of Historic Places/National Historic Landmarks Program.

[FR Doc. 2023-02769 Filed 2-8-23; 8:45 am]

BILLING CODE 4312-52-P